SECURITIES AND EXCHANGE COMMISSION

[File No. 500-1]

Ewan 1, INC. n/k/a AccessKey IP, Inc.; Order of Suspension of Trading

April 19, 2013.

It appears to the Securities and Exchange Commission that there is a lack of current and accurate information concerning the securities of Ewan 1, Inc. n/k/a AccessKey IP, Inc. (“AccessKey”) because it has not filed a periodic report since it filed its registration pursuant to the Securities Exchange Act of 1934 (“Exchange Act”) on August 21, 2002.

The Commission is of the opinion that the public interest and the protection of investors require a suspension of trading in the securities of AccessKey. Therefore, it is ordered, pursuant to Section 12(k) of the Exchange Act, that trading in the securities of AccessKey is suspended for the period from 9:30 a.m. EDT on April 19, 2013, through 11:59 p.m. EDT on May 2, 2013.

By the Commission.
Elizabeth M. Murphy,
Secretary.

[FR Doc. 2013-09637 Filed 4-19-13; 4:15 pm]

BILLING CODE 8011-01-P